SECURITIES AND EXCHANGE COMMISSION

[Release No. 34-82892; File No. 4-698]

Joint Industry Plan; Notice of Withdrawal of Amendment No. 4 to the National Market System Plan Governing the Consolidated Audit Trail

March 16, 2018.

I. Introduction

On December 11, 2017, the Operating Committee for CAT NMS, LLC (the “Company”), on behalf of the parties to the National Market System Plan Governing the Consolidated Audit Trail (the “CAT NMS Plan”): BOX Options Exchange LLC, Cboe BYX Exchange, Inc., Cboe BZX Exchange, Inc., Cboe EDGA Exchange, Inc., Cboe EDGX Exchange, Inc., Cboe C2 Exchange, Inc., Cboe Exchange, Inc., Chicago Stock Exchange, Inc., Financial Industry Regulatory Authority, Inc., Investors' Exchange LLC, Miami International Securities Exchange, LLC, MIAX PEARL, LLC, Nasdaq BX, Inc., Nasdaq GEMX, LLC, Nasdaq ISE, LLC, Nasdaq MRX, LLC, Nasdaq PHLX LLC, The Nasdaq Stock Market LLC, New York Stock Exchange LLC, NYSE American, LLC and NYSE Arca, Inc., (the “Participants”) filed with the Securities and Exchange Commission (“Commission”) pursuant to Section 11A of the of the Securities Exchange Act of 1934 ¹ (the “Exchange Act”) and Rule 608 thereunder,² Amendment No. 4 to the CAT NMS Plan to add a fee schedule to the CAT NMS Plan that would set forth fees to be paid by the Participants to fund the Consolidated Audit Trail.³ A Notice of Filing and Immediate Effectiveness of Amendment No. 4 was published for comment in the Federal Register on January 11, 2018.⁴

¹ 15 U.S.C. 78k-1.

² 17 CFR 242.608.

³ See Letter from Michael Simon, Chair, CAT NMS Plan Operating Committee, to Brent J. Fields, Secretary, Commission, dated December 11, 2017.

⁴ See Exchange Act Release No. 82451 (January 5, 2018), 83 FR 1399 (January 11, 2018).

The Commission is publishing this notice to reflect that on January 11, 2018, prior to the end of the 60-day period provided for in Exchange Act Rule 608(b)(iii), the Participants withdrew the Amendment.⁵

⁵ See Letter from Michael Simon, Chair, CAT NMS Plan Operating Committee, to Brent J. Fields, Secretary, Commission, dated January 10, 2018.

By the Commission.
Eduardo A. Aleman,
Assistant Secretary.

[FR Doc. 2018-05790 Filed 3-21-18; 8:45 am]

BILLING CODE 8011-01-P